DEPARTMENT OF ENERGY

Federal Energy Regulatory Commission

[Project No. 2558-029]

Vermont Marble Power Division of Omya Inc.; Notice of Application Tendered for Filing with the Commission and Establishing Procedural Schedule for Licensing and Deadline for Submission of Final Amendments

April 2, 2010.

Take notice that the following hydroelectric application has been filed with the Commission and is available for public inspection.

a. Type of Application: New Major License.

b. Project No.: 2558-029.

c. Date Filed: March 31, 2010.

d. Applicant: Vermont Marble Power Division of Omya Inc.

e. Name of Project: Otter Creek Hydroelectric Project.

f. Location: The existing project is located on Otter Creek in Addison and Rutland Counties, Vermont. The project does not affect federal lands.

g. Filed Pursuant to: Federal Power Act 16 U.S.C. 791(a)-825(r).

h. Applicant Contact: Todd Allard, Operations Engineer, Vermont Marble Power Division of Omya Inc., 9987 Carver Road, Suite 300, Cincinnati, OH 45242, (513) 387-4344.

i. FERC Contact: Aaron Liberty, (202) 502-6862 or aaron.liberty@ferc.gov.

j. This application is not ready for environmental analysis at this time.

k. The Project Description: The existing Otter Creek Hydroelectric Project consists of three developments with a combined installed capacity of 18.1 megawatts (MW). The project produces an average annual generation of 67,258 megawatt-hours. Vermont Marble Power uses the energy from the Project to serve its retail customers in the towns of Proctor and Pittsford, Vermont and to serve its affiliated industrial operations within Omya Inc.

The Proctor development, located at river mile 64.2, includes the following constructed facilities: (1) A 13-foot-high, 128-foot-long, masonry, concrete-capped dam with a 3-foot-high inflatable flashboard system; (2) a 92-acre reservoir with a usable storage capacity of 275.48 acre-feet at a normal maximum water surface elevation of 469.5 feet; (3) a gated forebay-intake structure approximately 14 feet deep by 115 feet long with a maximum width of 48 feet; (4) two intakes with two penstocks: A 9-foot-in-diameter, 460-foot-long, riveted steel penstock that decreases to 8 feet in diameter; and a 7-foot-in-diameter, 500-foot-long, spiral welded steel penstock; (5) an original concrete and brick masonry powerhouse measuring 100 by 33 feet containing four vertical shaft turbines: Three 750 kW units and one 1,680 kW unit with a combined maximum hydraulic capacity of 565 cubic feet per second; (6) an additional steel structure measuring 28 by 48 feet attached to the original powerhouse containing one 3,000 kW vertical shaft unit with a maximum hydraulic capacity of 325 cfs; (7) generator leads; (8) a 0.48/4.16 kV single phase transformer; (9) a 0.48/46 kV step-up transformer; (10) three winding transformer banks; and (11) appurtenant facilities.

The Beldens development, located at river mile 23, includes the following constructed facilities: (1) Two concrete dams on either side of a ledge/bedrock island with 2.5-foot-high wooden flashboards: A 15-foot-high, 56-foot-long dam (west) and a 24-foot-high, 57-foot-long dam (east); (2) a 22-acre reservoir with a usable storage capacity of 252.52 acre-feet at a normal maximum water surface elevation of 283 feet; (3) two intakes equipped with trash racks: A 79-foot-long intake and a 35-foot-long intake with a 95-foot-long sluiceway; (4) a 12-foot-in-diameter, 30-foot-long steel penstock that bifurcates into two 10-foot-in-diameter sections, each leading to an original powerhouse; (5) a 12-foot-in-diameter, 45-foot-long concrete penstock that leads to a newer powerhouse; (6) an original concrete and masonry powerhouse measuring 40 by 44 feet containing a 800 kW vertical shaft unit and 949 kW vertical shaft unit with a combined maximum hydraulic capacity of 650 cfs; (7) a second, newer concrete powerhouse measuring 40 by 75 feet containing a 4,100 kW vertical shaft unit with a maximum hydraulic capacity of 1,350 cfs; (8) generator leads; (9) a 2.4/46 kV step-up transformer bank; and (10) appurtenant facilities.

The Huntington Falls development, located at river mile 21, includes the following constructed facilities: (1) A 31-foot-high, 187-foot-long concrete dam with a 2.5-foot-high inflatable flashboard system; (2) a 23-acre reservoir with a usable storage capacity of 234.16 acre-feet at a normal maximum water surface elevation of 218.1 feet; (3) two intakes equipped with trash racks: A 40-foot-long intake and a 24-foot-long intake; (4) three penstocks: Two 10-foot-in-diameter, 30-foot-long steel penstocks leading to an original powerhouse, and a 12-foot-in-diameter, 75-foot-long concrete penstock leading to a newer powerhouse; (5) an original brick masonry powerhouse measuring 42 by 60 feet containing a 600 kW vertical shaft unit and a 800 kW vertical shaft unit with a combined maximum hydraulic capacity of 660 cfs; (6) a second, newer powerhouse measuring 40 by 75 feet containing a 4,100 kW vertical shaft unity with a maximum hydraulic capacity of 1,350 cfs; (7) generator leads; (8) a 2.4/46 kV step-up transformer bank; and (9) appurtenant facilities.

Currently, the Proctor development operates in a modified run-of-river mode, with infrequent diversions at the direction of Independent System Operator-New England (ISO-NE), while the Beldens and Huntington Falls developments operate in a run-of-river mode. The Proctor development has a continuous downstream minimum flow requirement of 100 cfs or inflow to the development, whichever is less, with minimum flows from April through mid-June required to be equal to at least 50 percent of project inflows. A bypassed reach minimum flow requirement of 5 cfs is released at the Beldens development through an opening in the flashboards along the west dam. A bypassed reach minimum flow requirement of 15 cfs is released at the Huntington Falls development via a minimum flow gate at the right abutment of the dam.

Vermont Marble Power does not propose any changes to project facilities or operations. Vermont Marble Power proposes to implement measures to enhance recreation facilities in the project area.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule:

The application will be processed according to the following Hydro Licensing Schedule. Revisions to the schedule may be made as appropriate.

Milestone | Target date
Tendering Notice | April 2, 2010.
Notice of Acceptance/Notice of Ready for Environmental Analysis (when FERC approved studies are complete) | November 5, 2010.
Filing of recommendations, preliminary terms and conditions, and fishway prescriptions | January 4, 2011.
Commission issues EA | May 4, 2011.
Comments on EA | June 3, 2011.
Modified Terms and Conditions | August 2, 2011.

o. Final amendments to the application must be filed with the Commission no later than 30 days from the issuance date of the notice of ready for environmental analysis.

Kimberly D. Bose,
Secretary.

[FR Doc. 2010-8076 Filed 4-8-10; 8:45 am]

BILLING CODE 6717-01-P